DEPARTMENT OF THE INTERIOR

Bureau of Land Management

[LLCAD08000; L51010000; EU0000; LVRWB11B4700; CACA-53705]

Notice of Intent To Prepare an Amendment to the California Desert Conservation Area Plan and Associated Environmental Assessment, San Bernardino County, CA

AGENCY: Bureau of Land Management, Interior.

ACTION: Notice of intent.

SUMMARY: In compliance with the National Environmental Policy Act of 1969, as amended (NEPA), and the Federal Land Policy and Management Act of 1976, as amended (FLPMA), the Bureau of Land Management (BLM), Barstow Field Office, Barstow, California, intends to prepare an amendment to the 1980 California Desert Conservation Area (CDCA) Plan with an associated Environmental Assessment (EA) to identify an 80-acre parcel of public land for possible direct sale. With this notice, the BLM is announcing the beginning of the scoping process to solicit public comments and identify issues.

DATES: This notice initiates the public scoping process for the plan amendment with an associated EA. Comments on issues may be submitted in writing until November 5, 2012. The date(s) and location(s) of any scoping meetings will be announced at least 15 days in advance through the local news media. In order to be included in the EA, all comments must be received prior to the close of the 30-day scoping period or 15 days after the last public meeting, whichever is later. The BLM will provide additional opportunities for public participation upon publication of the EA as appropriate.

ADDRESSES: You may submit comments on issues and planning criteria related to the plan amendment EA by any of the following methods:

• Email: bhoover@blm.gov.

• Fax: 760-252-6099.

• Mail: Birgit Hoover, Realty Specialist, BLM Barstow Field Office, 2601 Barstow Road, Barstow, CA 92311.

Documents pertinent to this notice will be available for public review at the Barstow Field Office: 2601 Barstow Road, Barstow, California 92311.

FOR FURTHER INFORMATION CONTACT: For further information and/or to have your name added to our mailing list, contact Birgit Hoover, Realty Specialist, BLM Barstow Field Office, telephone 760-252-6035; address 2601 Barstow Road, Barstow, CA 92311. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: This document provides notice that the BLM Barstow Field Office, Barstow, California, intends to prepare a plan amendment with an associated EA for the 1980 CDCA Plan, announces the beginning of the scoping process, and seeks public input on issues and planning criteria. The planning area is located in San Bernardino County, California, and encompasses approximately 80 acres of public land that has been identified for possible direct sale. The BLM received a request from OMYA, Inc., to purchase the planning area, by direct sale, under the authority of Section 203 of FLPMA (43 U.S.C. 1713). However, the public land described above is currently not available for sale under the 1980 CDCA Plan as amended, and a plan amendment is required to process a direct sale. This plan amendment will be limited to an analysis of whether the public land described above meets Section 203 sales criteria of FLPMA. The purpose of the public scoping process is to determine relevant issues that will influence the scope of the environmental analysis, including alternatives, and guide the planning process. Preliminary issues for the plan amendment area have been identified by BLM personnel. The issues include: Mineral resources, special status species, and cultural resources. Preliminary planning criteria include:

1. Compliance with FLPMA, NEPA, and all other applicable laws;

2. Coordination with local and county governments; and

3. Government-to-government consultation with federally recognized tribes.

You may submit comments on issues and planning criteria in writing to the BLM at any public scoping meeting, or you may submit them to the BLM using one of the methods listed in the ADDRESSES section above. To be most helpful, you should submit comments by the close of the 30-day scoping period or within 15 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Minerals and geology, wildlife and fisheries, archaeologists, hydrology, soils, and lands and realty.

Authority: 40 CFR 1501.7 and 43 CFR 1610.2

Thomas Pogacnik,
Deputy State Director, California.

[FR Doc. 2012-24522 Filed 10-3-12; 8:45 am]

BILLING CODE 4310-40-P